DEPARTMENT OF TRANSPORTATION

Federal Aviation Administration

14 CFR Part 71

[Docket No. FAA-2009-0902; Airspace Docket No. 09-ANM-16]

Modification of Class E Airspace; Astoria, OR

AGENCY: Federal Aviation Administration (FAA), DOT.

ACTION: Final rule.

SUMMARY: This action will amend Class E airspace at Astoria, OR, to accommodate aircraft using a new Area Navigation (RNAV) Global Positioning System (GPS) Standard Instrument Approach Procedure (SIAP) at Astoria Regional Airport. This will improve the safety and management of Instrument Flight Rules (IFR) operations at the airport. This action also will correct the airport name from Port of Astoria Airport, and makes minor adjustments to the legal description of the airspace.

DATES: Effective date, 0901 UTC, November 18, 2010. The Director of the Federal Register approves this incorporation by reference action under 1 CFR Part 51, subject to the annual revision of FAA Order 7400.9 and publication of conforming amendments.

FOR FURTHER INFORMATION CONTACT: Eldon Taylor, Federal Aviation Administration, Operations Support Group, Western Service Center, 1601 Lind Avenue, SW., Renton, WA 98057; telephone (425) 203-4537.

SUPPLEMENTARY INFORMATION:

History

On November 13, 2009, the FAA published in the Federal Register a notice of proposed rulemaking to amend controlled airspace at Astoria, OR (74 FR 58573). Interested parties were invited to participate in this rulemaking effort by submitting written comments on the proposal to the FAA. No comments were received.

Class E airspace designations are published in paragraph 6002 and 6005, respectively, of FAA Order 7400.9T signed August 27, 2009, and effective September 15, 2009, which is incorporated by reference in 14 CFR Part 71.1. The Class E airspace designations listed in this document will be published subsequently in that Order.

The Rule

This action amends Title 14 Code of Federal Regulations (14 CFR) Part 71 by amending Class E surface airspace, and adding additional Class E airspace extending upward from 700 feet above the surface, at Astoria Regional Airport, to accommodate IFR aircraft executing new RNAV GPS SIAP at the airport. This action is necessary for the safety and management of IFR operations. This action also makes a minor correction to the legal description for Class E airspace extending upward from 700 feet above the surface to coincide with the FAA's National Aeronautical Navigation Services, and corrects the airport name from Port of Astoria Airport to Astoria Regional Airport.

The FAA has determined this regulation only involves an established body of technical regulations for which frequent and routine amendments are necessary to keep them operationally current. Therefore, this regulation: (1) Is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified this rule, when promulgated, will not have a significant economic impact on a substantial number of small entities under the criteria of the Regulatory Flexibility Act. The FAA's authority to issue rules regarding aviation safety is found in Title 49 of the U.S. Code. Subtitle 1, Section 106 discusses the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it establishes additional controlled airspace at Astoria Regional Airport, Astoria, OR.

List of Subjects in 14 CFR Part 71

Airspace, Incorporation by reference, Navigation (air).

Adoption of the Amendment

In consideration of the foregoing, the Federal Aviation Administration amends 14 CFR Part 71 as follows:

PART 71—DESIGNATION OF CLASS A, B, C, D AND E AIRSPACE AREAS; AIR TRAFFIC SERVICE ROUTES; AND REPORTING POINTS

1. The authority citation for 14 CFR Part 71 continues to read as follows:

Authority: 49 U.S.C. 106(g), 40103, 40113, 40120; E. O. 10854, 24 FR 9565, 3 CFR, 1959-1963 Comp., p. 389.

§ 71.1 [Amended]

2. The incorporation by reference in 14 CFR Part 71.1 of the Federal Aviation Administration Order 7400.9T, Airspace Designations and Reporting Points, signed August 27, 2009, and effective September 15, 2009 is amended as follows:

Paragraph 6002 Class E airspace designated as surface areas.

* * * * *

ANM OR E2 Astoria, OR [Modified]

Astoria Regional Airport, Astoria, OR

(Lat. 46°09′29″ N., long. 123°52′43″ W.)

Camp Rilea Heliport

(Lat. 46°06′59″ N., long. 123°55′54″ W.)

Within a 4-mile radius of the Astoria Regional Airport, and within 1.8 miles each side of the Astoria Regional Airport 268° bearing extending from the 4-mile radius to 7 miles west of the Astoria Regional Airport, and within 1.8 miles each side of the Astoria Regional Airport 095° bearing extending from the 4-mile radius to 12.1 miles east of the Astoria Regional Airport, excluding the airspace within a wedge south of Camp Rilea Heliport, from the 120° bearing clockwise to the 225° bearing of the Camp Rilea Heliport. This Class E airspace area is effective during the dates and times established in advance by a Notice to Airmen. The effective date and time will thereafter be continuously published in the Airport/Facility Directory.

Paragraph 6005 Class E airspace areas extending upward from 700 feet or more above the surface of the earth.

* * * * *

ANM OR E5 Astoria, OR [Modified]

Astoria Regional Airport, Astoria, OR

(Lat. 46°09′29″ N., long. 123°52′43″ W.)

Seaside Municipal Airport

(Lat. 46°00′54″ N., long. 123°54′28″ W.)

That airspace extending from 700 feet above the surface within a 6.5-mile radius of Astoria Regional Airport, within 4 miles north and 8.3 miles south of the Astoria Regional Airport 268° bearing extending from the 6.5-mile radius to 15.9 miles west of Astoria Regional Airport, excluding the portion within a 1.8-mile radius of Seaside Municipal Airport; and within 4 miles northeast and 8.3 miles southwest of the Astoria Regional Airport 326° bearing extending from the 6.5-mile radius to 21.4 miles northwest of Astoria Regional Airport; and within 4 miles north and 4 miles south of the Astoria Regional Airport 096° bearing extending from the 6.5-mile radius to 12 miles east, and 8.3 miles north and 4 miles south of the Astoria Regional Airport 096° bearing from 12 miles east, to 28.3 miles east of Astoria Regional Airport; and within a 15.9-mile radius of Astoria Regional Airport extending clockwise from the 326° bearing to the 347° bearing; and within a 23.1-mile radius of Astoria Regional Airport extending clockwise from the 347° bearing to the 039° bearing extending from the 15.9-mile radius to a 23.1-mile radius of Astoria Regional Airport extending clockwise from the airport 039° bearing to the airport 185° bearing.

Issued in Seattle, Washington, on August 9, 2010.
Lori Andriesen,
Acting Manager, Operations Support Group, Western Service Center.

[FR Doc. 2010-20215 Filed 8-16-10; 8:45 am]

BILLING CODE 4910-13-P